DEPARTMENT OF THE INTERIOR

Fish and Wildlife Service

[FWS-R1-ES-2025-N021; FXES11140100000-256-FF01E0000]

Pierce County Planning and Public Works Flood Risk Reduction Structures Maintenance and Operations Habitat Conservation Plan and Environmental Assessment; Receipt of Incidental Take Permit Application

AGENCY: Fish and Wildlife Service, Interior.

ACTION: Notice of availability; request for comments.

SUMMARY: We, the U.S. Fish and Wildlife Service (FWS), have received an incidental take permit (ITP) application from the Pierce County Department of Planning and Public Works (Pierce County; applicant), including a habitat conservation plan (HCP) for maintenance and operations of flood risk reduction structures in Pierce County, Washington. Pierce County submitted an ITP application and HCP pursuant to the Endangered Species Act. The National Marine Fisheries Service (NMFS) also received an ITP application from Pierce County and, concurrent with this notice, has also published a notice of availability for comment on the ITP application, the applicant's HCP, and, as the lead Federal agency under the National Environmental Policy Act, a draft environmental assessment (draft EA) analyzing the potential effects of issuance of the respective ITPs. We invite the public and local, State, Tribal, and Federal agencies to comment on these documents.

DATES: Written comments must be received by no later than 5 p.m. Pacific Standard Time on August 22, 2025. Any comments received after the closing date may not be considered in the final decision on these actions.

ADDRESSES:

• Obtaining documents: The HCP and draft EA are available on the internet at: https://www.fisheries.noaa.gov/action/pierce-county-and-public-works-flood-risk-reduction-structures-maintenance-and-operations.

• Submitting comments: Submit comments in writing via email to PierceCountyHCP@noaa.gov. Include the following in the email subject line: “Comments on Pierce County HCP/Draft EA.” Please specify whether your comments are associated with the HCP or the draft EA, and refer to the specific page and line number of the document on which you are commenting. FWS and NMFS will consider all relevant comments submitted in response to the respective notices of availability. There is no need to submit identical comments in response to both notices (see also Public Availability of Comments).

FOR FURTHER INFORMATION CONTACT: Joshua Emery, Washington Fish and Wildlife, by email at joshua_emery@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (FWS), have received an incidental take permit (ITP) application from the Pierce County Department of Planning and Public Works (Pierce County; applicant), including a habitat conservation plan (HCP) for maintenance and operations of flood risk reduction structures in Pierce County, Washington. Pierce County submitted an ITP application and HCP pursuant to section 10(a)(1)(B) of the Endangered Species Act of 1973, as amended (ESA; 16 U.S.C. 1531 et seq.). The permit, if issued, would authorize incidental take of species under FWS jurisdiction resulting from the maintenance and operation of levees and other flood control structures, and conservation activities described in the HCP, for a permit term of 30 years.

The National Marine Fisheries Service (NMFS) also received an ITP application and, concurrent with this notice, has also published a notice of the availability for comment on that ITP application, the HCP and, as the lead Federal agency under the National Environmental Policy Act of 1969, as amended (NEPA; 42 U.S.C. 4321 et seq.), a draft environmental assessment (draft EA) analyzing the potential effects of issuance of the respective ITPs. FWS is a cooperating agency under NEPA for this proposed action. Both notices are soliciting public comments through a single process, described below. Species Included in the Habitat Conservation Plan Pierce County's HCP includes one ESA-listed species that is under the jurisdiction of FWS, and three ESA-listed species that are under the jurisdiction of NMFS. The HCP also includes 4 species not listed under the ESA.

Table 1—Species Included in Habitat Conservation Plan
Species name | Scientific name | Status
ESA-Listed Species Under FWS Jurisdiction:
Bull trout | Salvelinus confluentus | Threatened.
ESA-Listed Species Under NMFS Jurisdiction:
Chinook salmon | Oncorhynchus tshawytscha | Threatened (Puget Sound evolutionarily significant unit).
Steelhead | Oncorhynchus mykiss | Threatened (Puget Sound distinct population segment).
Non-ESA-Listed Species:
Coho salmon | Oncorhynchus kisutch | Not listed (Puget Sound/Strait of Georgia evolutionarily significant unit).
Pacific lamprey | Lampetra tridentata | Not listed.
River lamprey | Entosphenus tridentatus | Not listed.
Western brook lamprey | Lampetra richardsoni | Not listed.

Background

Section 9 of the ESA prohibits the taking of a species listed as endangered or threatened. The ESA defines “take” to mean to harass, harm, pursue, hunt, shoot, wound, kill, trap, capture, or collect, or to attempt to engage in any such conduct. The FWS may issue permits, under limited circumstances, to take listed species incidental to otherwise lawful activities pursuant to section 10(a)(1)(B) of the ESA and implementing regulations (50 CFR 17.22(b) and 17.32(b)).

On November 1, 2024, the FWS and NMFS received separate ITP applications from Pierce County, in accordance with the requirements of the ESA. Pierce County prepared an HCP in support of its applications and is seeking 30-year ITPs for incidental take of seven covered species. The ITPs, if issued would authorize take of the covered species that may occur incidental to the maintenance and operations activities associated with Pierce County-owned flood risk reduction structures, and conservation activities described in the HCP, in and along the Puyallup, White, and Nisqually Rivers in Pierce County, Washington (covered activities). Authorization for take of the three species not currently listed under the ESA would be included in the ITP proposed for issuance by FWS; the take authorization would go into effect for one or more of the species if the FWS lists the species during the permit term. The HCP addresses potential impacts that will likely result from the taking of covered species and describes the steps the applicant will undertake to avoid, minimize, and mitigate such impacts.

The HCP also describes alternatives considered by the applicants, monitoring protocols, funding assurances, and procedures to account for unforeseen or extraordinary circumstances.

The proposed issuance of the ITPs is considered a Federal action under NEPA, and NMFS prepared a draft EA to analyze the potential impacts on the human environment in accordance with the requirements of NEPA, with input from FWS as a cooperating agency. Further information regarding the draft EA is described in the NMFS notice of availability.

Next Steps

After the public comment period ends (see DATES), FWS and NMFS will each evaluate the permit applications, associated documents, and any comments received to make their permit decisions based on the statutory and regulatory criteria of the ESA. Each agency will document its determination independently in separate ESA section 10 findings documents and ESA section 7 biological opinions. NMFS will also finalize the EA and determine whether the proposed action warrants a finding of no significant impact, or whether an environmental impact statement should be prepared pursuant to NEPA.

Public Availability of Comments

The HCP and draft EA are available for public review and comment. Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Authority

The Service provides this notice under section 10(c) of the Endangered Species Act (16 U.S.C. 1531 et seq.) and its implementing regulations (50 CFR 17.22, and 50 CFR 17.32).

Bridget Fahey,
Acting Regional Director, Pacific Region, U.S. Fish and Wildlife Service.

[FR Doc. 2025-13815 Filed 7-22-25; 8:45 am]

BILLING CODE 4333-15-P